POSTAL SERVICE

International Product Change—International Competitive Multi-Service Commercial Contracts 1: Postal ServiceTM

ACTION: Notice.

SUMMARY: The Postal Service gives notice of filing a request with the Postal Regulatory Commission to add International Competitive Multi-Service Commercial Contracts 1 to the list of Negotiated Service Agreements in the Competitive Product List in the Mail Classification Schedule.

DATES: Date of notice: September 25, 2020.

FOR FURTHER INFORMATION CONTACT: Christopher C. Meyerson, (202) 268-7820.

SUPPLEMENTARY INFORMATION: The United States Postal Service® hereby gives notice that, pursuant to 39 U.S.C. 3642, on September 18, 2020, it filed with the Postal Regulatory Commission a Request of the United States Postal Service to Add International Competitive Multi-Service Commercial Contracts 1 to the Competitive Products List. The request proposes the creation of the International Competitive Multi-Service Commercial Contracts 1 product, along with the establishment of filing conventions and practices to eliminate unnecessary and repetitive workload, which would expedite the processing of customized outbound international negotiated service agreements. If the request is favorably reviewed, the United States Postal Service® would file almost all customized outbound international negotiated service agreements under the CP docket number assigned to the request. Documents are available at www.prc.gov, Docket Nos. MC2020-252 and CP2020-282.

Joshua J. Hofer,
Attorney, Federal Compliance.

[FR Doc. 2020-21173 Filed 9-24-20; 8:45 am]

BILLING CODE 7710-12-P